DEPARTMENT OF AGRICULTURE

Food Safety and Inspection Service

[Docket No. 04-030N]

Codex Alimentarius: Meeting of the Codex Committee on Residues of Veterinary Drugs in Foods

AGENCY: Food Safety and Inspection Service, USDA.

ACTION: Notice of public meeting and request for comments.

SUMMARY: This notice informs the public that the Office of the Under Secretary for Food Safety, United States Department of Agriculture (USDA), and the Center for Veterinary Medicine (CVM), Food and Drug Administration (FDA), are sponsoring a public meeting on Tuesday, September 28, 2004, to provide information and receive public comments on agenda items that will be discussed at the Fifteenth Session of the Codex Committee on Residues in Veterinary Drugs in Foods, which will be held in Alexandria, VA, October 26-29, 2004. The Under Secretary and CVM recognize the importance of providing interested parties with information about the Codex Committee on Residues of Veterinary Drugs in Foods of the Codex Alimentarius Commission and to address items on the Agenda for the 15th Session of the Committee.

DATES: The public meeting is scheduled for Tuesday, September 28 from 10 a.m. to 1 p.m.

ADDRESSES: The public meeting will be held at the Best Western Washington Gateway Hotel, 1251 West Montgomery Avenue, Rockville, MD., 20850 (Main Ballroom). (The Hotel will provide shuttle service from the Rockville Metro Stop to the Hotel at 9:30 a.m.)

FSIS invites interested persons to submit comments on this notice. Comments may be submitted by any of the following methods:

Mail, including floppy disks or CD-ROM's, and hand- or courier-delivered items: Send to Docket Clerk, USDA, FSIS, 300 12th Street, SW., Room 102 Cotton Annex, Washington, DC, 20250.

All submissions received must include the Agency name and docket number 04-030N.

All comments submitted in response to this notice, as well as research and background information used by FSIS in developing this document, will be available for public inspection in the FSIS Docket Room at the address listed above between 8:30 a.m. and 4:30 p.m., Monday through Friday. The comments also will be posted on the Agency's Web site at http://www.fsis.usda.gov/OPPDE/rdad/FRDockets.htm.

Research and background information will also be accessible via the World Wide Web at the following address: http://www.codexalimentarius.net.

FOR FURTHER INFORMATION CONTACT: Edith E. Kennard, Staff Officer, U.S. Codex Office, FSIS, Room 4861, South Building, 1400 Independence Avenue SW., Washington, DC, 20250, Phone: (202) 720-5261, Fax: (202) 720-3157, E-mail: edith.kennard@fsis.usda.gov.

SUPPLEMENTARY INFORMATION:

Background

The Codex Alimentarius Commission was established in 1962 by two United Nations organizations, the Food and Agriculture Organization (FAO) and the World Health Organization (WHO). Codex is the major international organization facilitating fair international trade in food and protecting the health and economic interests of consumers. Through adoption of food standards, codes of practice, and other guidelines developed by its committees, and by promoting their adoption and implementation by governments, Codex seeks to ensure that the world's food supply is sound, wholesome, free from adulteration, and correctly labeled. In the United States, USDA, FDA, and the Environmental Protection Agency manage and carry out U.S. Codex activities.

The Codex Committee on Residues of Veterinary Drugs in Foods was established in 1985 by the 16th Session of the Codex Alimentarius Commission to determine priorities for the consideration of residues of veterinary drugs in foods and to recommend maximum levels of such substances; to develop codes of practice as may be required; and to consider methods of sampling and analysis for the determination of veterinary drug residues in foods. The Committee is chaired by the United States.

Issues To Be Discussed at the Public Meeting

Provisional agenda items:

1. Draft Maximum Residue Limits (MRLs) for Veterinary Drugs (Flumequine, neomycin, dicyclanil, carbodox, melengestrol acetate and trichlorforn (metrifonate), phoxim, cyalothrin, and cefuroxime).

2. Proposed Draft Maximum Residue Limits for Veterinary Drugs (Cypermethrin, alpha-cypermethrin, imidocarb, flumequine, pirlimycin, cypermethrin/alpha cypermethrin, doramectin, and ractopamine).

3. Proposed Draft Code of Practice to Minimize and Contain Antimicrobial Resistance.

4. Proposed Draft Revised Guidelines for the Establishment of a Regulatory Program for the Control of Veterinary Drug Residues in Foods.

5. Proposed Draft Revised Part II “General Consideration on Analytical Methods for Residue Control” of the Codex Guidelines for the Establishment of a Regulatory Program for the Control of Veterinary Drug Residues in Foods.

6. Discussion Paper on Risk Management Methodologies, Including Risk Assessment Policies, in the Codex Committee of Veterinary Drugs in Foods.

7. Review of Performance-based Criteria for Methods of Analysis.

8. Consideration of the Priority List of Veterinary Drugs Requiring Evaluation or Re-evaluation.

9. Discussion Paper on Rounding of Acceptable Daily Intakes for Veterinary Drugs prior to Setting of MRLs.

Public Meeting

At the September 28th public meeting, the agenda items will be described and discussed, and the U.S. draft positions will be presented. Attendees will have the opportunity to pose questions and offer comments. Comments may be sent to the FSIS Docket Room (see ADDRESSES). Written comments should state that they relate to activities of the Codex Committee on Residues of Veterinary Drugs in Foods (CCRVDF) (#04-030N).

Additional Public Notification

Public awareness of all segments of rulemaking and policy development is important. Consequently, in an effort to ensure that the public and in particular minorities, women, and persons with disabilities, are aware of this notice, FSIS will announce it on-line through the FSIS Web page located at http://www.fsis.usda.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

Done at Washington, DC on September 23, 2004.
F. Edward Scarbrough,
U.S. Manager for Codex Alimentarius.

[FR Doc. 04-21774 Filed 9-28-04; 8:45 am]

BILLING CODE 3410-DM-P